DEPARTMENT OF HEALTH AND HUMAN SERVICES

Centers for Medicare & Medicaid Services

Statement of Organization, Functions, and Delegations of Authority

AGENCY: Centers for Medicare & Medicaid Services.

ACTION: Notice.

SUMMARY: The Centers for Medicare & Medicaid Services (CMS), Center for Medicaid and CHIP Services, Office of Rural Health Transformation, has been established.

DATES: This new organizational structure was approved by the Secretary of the Department of Health and Human Services and took effect on December 18, 2025.

FOR FURTHER INFORMATION CONTACT: Joe Kane at (410) 786-0655; 7500 Security Blvd., Baltimore, MD.

SUPPLEMENTARY INFORMATION: Part F of the Statement of Organization, Functions, and Delegations of Authority for the Department of Health and Human Services, Centers for Medicare & Medicaid Services (CMS) (last amended at Federal Register, Vol. 87, No. 205, pp. 64492-64494, dated October 25, 2022) is amended to reflect the establishment of the Office of Rural Health Transformation within Center for Medicaid and CHIP Services (CMCS).

Part F, Section FC. 10 (Organization) is revised as follows: Center for Medicaid and CHIP Services, Office of Rural Health Transformation, Office of Rural Health Transformation, Division of State Rural Engagement.

Part F, Section FC. 20 (Functions) for the new organization is as follows:

Office of Rural Health Transformation

* Establish and provide oversight for the Rural Health Transformation Program (RHTP), which aims to improve healthcare access and outcomes in rural communities.

* Develop Rural Health Transformation application process and criteria to use in grant application reviews and awards, in accordance with statutory requirements.

* In partnership with the Office of Acquisition and Grants Management, (OAGM) distribute funds to states in accordance with statutorily defined timelines.

* Partner with HHS entities, states, healthcare facilities, healthcare advocacy groups, and other key stakeholders to ensure sound guidance and program initiatives that improve rural residents' access to healthcare services in support of making rural America healthy again.

* Lead and/or support CMS interactions and collaborations with States and local governments, territories, healthcare providers, key stakeholders (e.g., consumer and policy organizations and the healthcare provider community), and other Federal government entities on making rural America again.

* Serve as CMS' lead for rural health transformation program management, oversight, and performance issues related to interactions with States and the stakeholder community.

* Serve as CMS's primary contact for RHTP public inquiries, including but not limited to local congressional offices, and providers.

* Advise the Administrator, Center Leadership, senior staff, and other CMS components on matters that affect RHTP, including policy analysis, Technical Advisory Group perspectives, consultation, and information dissemination strategies.

Division of State Rural Engagement

* Provide Rural Health Transformation policy and operational guidance to States and internal and external stakeholders to ensure appropriate policy application.

* Collaborate with States in their implementation of approved rural health transformation programs and conduct readiness assessment reviews, ongoing monitoring, and oversight.

* Establish policy regarding program monitoring, quality and performance management, and quality improvement for programs and services to ensure progress in improving health outcomes for rural populations.

* Monitor the implementation of states' rural health transformation plans to ensure resources are appropriately used and hold states accountable for achieving the goals outlined in the states' plans.

* Conduct training for internal and external stakeholders as necessary.

* Work with the CMCS, Data and Systems Group (DSG), Division of State Systems to leverage existing systems to develop and implement new applications for state system enhancements and quality improvement activities. For example, Medicaid Statistical Information System (MSIS), Transformed-MSIS, and Medicaid & CHIP Program (MACPro), DataConnect, Medicaid and CHIP Data Collection Tool and develop and maintain the system for the collection, organization, review, and analysis of data necessary for program integrity, program oversight, and administration.

* Partners with the Center for Program Integrity (CPI), OAGM and other CMS stakeholder offices to develop and implement a comprehensive strategic plan, objectives, and measures to ensure program vulnerabilities with waste, fraud, and abuse are identified and resolved.

(Authority: 44 U.S.C. 3101)

Robert F. Kennedy Jr.,
Secretary, Department of Health and Human Services.

[FR Doc. 2025-23588 Filed 12-19-25; 8:45 am]

BILLING CODE 4150-28-P